DEPARTMENT OF JUSTICE

Notice of Lodging of Consent Decree Under Comprehensive Environmental Response, Compensation and Liability Act

In accordance with Departmental policy, 28 CFR 50.7, notice is hereby given that a proposed Consent Decree in United States v. William R. Aliff, Representative of the Estate of Elwin Eugene Aliff (S.D.W.Va.), C.A. No. 1:02-0279, was lodged on March 26, 2002, with the United States District Court for the Southern District of West Virginia. The Consent Decree resolves the United States' claims against the defendant, as representative of the Estate of Elwin Eugene Aliff (“Estate”), with respect to response costs incurred, pursuant to Section 107 of the Comprehensive Environmental Response, Compensation and Liability Act, as amended (“CERCLA”), 42 U.S.C. 9607. These costs were incurred by the Environmental Protection Agency (“EPA”) in connection with the clean-up of the Route 52 Site, located in Bluefield, Mercer County; West Virginia.

The Consent Decree represents an ability-to-pay settlement with the Estate. The Consent Decree provides, inter alia, that the defendant, on behalf of the Estate, will: (a) Pay EPA $30,380.00 in cash within 30 days of entry of the Consent Decree by the Court and (b) sell/transfer the portion of the Site property owned by the Estate and pay EPA from the proceeds of the sale/transfer, pursuant to the terms of the Consent Decree. Further, the Federal Deposit Insurance Corporation has issued a Receiver's Certificate of Proof of Claim to the Estate (“FDIC Claim”), based upon funds the decedent had on deposit in a bank that failed, and the FDIC is currently pursuing litigation against certain persons in connection with the failed bank to recover depositor's funds. The present value of the Estate's FDIC Claim is $440,500. The defendant agreed to assign and transfer 60% of the FDIC Claim to EPA, and the FDIC has approved the assignment and transfer.

The Department of Justice will receive, for a period of 30 days from the date of this publication, comments relating to the proposed Consent Decree. Comments should be addressed to the Assistant Attorney General for the Environment and Natural Resources Division, Department of Justice, Washington, DC 20530, and should refer to United States v. William R. Aliff, Representative of the Estate of Elwin Eugene Aliff (S.D.W.Va.), C.A. No. 1:02-0279, and DOJ Reference No. 90-11-2-207/1.

The proposed Consent Decree may be examined at the Office of the United States Attorney, 300 Virginia Street-East, Room 4000, Charleston, West Virginia 25301; and the Region III Office of the Environmental Protection Agency, 1650 Arch Street, Philadelphia, Pennsylvania 19103-2029. A copy of the proposed Consent Decree may be obtained by mail from the Department of Justice Consent Decree Library, P.O. Box 7611, Washington, DC 20044. In requesting a copy, please refer to the referenced case and enclose a check in the amount of $16.75 (.25 cents per page production costs), payable to the Consent Decree Library.

Robert D. Brook,
Assistant Section Chief, Environmental Enforcement Section, Environment and Natural Resources Division.

[FR Doc. 02-8740 Filed 4-10-02; 8:45 am]

BILLING CODE 4410-15-M